POSTAL REGULATORY COMMISSION

39 CFR Part 3050

[Docket No. RM2018-2; Order No. 4347]

Periodic Reporting Requirements

AGENCY: Postal Regulatory Commission.

ACTION: Advance notice of proposed rulemaking.

SUMMARY: The Commission is noticing a recent filing requesting that the Commission initiate an informal rulemaking proceeding to consider revisions to the periodic reporting requirements codified at 39 CFR part 3050. This document informs the public of the filing, invites public comment, and takes other administrative steps.

DATES: Comments are due: March 7, 2018; Reply Comments are due: April 6, 2018.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Background

III. Invitation To Comment

IV. Ordering Paragraphs

I. Introduction

On December 27, 2017, the Postal Service filed a request for the Commission to consider revisions to the periodic reporting requirements codified in 39 CFR part 3050.¹ The Commission initiates this rulemaking to seek comments and facilitate the Commission's examination of these periodic reporting requirements.

¹ United States Postal Service Petition for Rulemaking on Periodic Reporting, December 27, 2017 (Petition).

II. Background

The Postal Accountability and Enhancement Act (PAEA) granted the Commission enhanced information gathering and reporting responsibilities. See 39 U.S.C. 3652(e)(1). The PAEA provides that the Commission shall prescribe the content and form of the public reports the Postal Service files with the Commission under section 3652. In Docket No. RM2008-4, the Commission approved its current periodic reporting requirements.²

² Docket No. RM2008-4, Order No. 203, Notice of Final Rule Prescribing Form and Content of Periodic Reports, April 16, 2009.

On December 27, 2017, the Postal Service filed a request for the Commission to consider revisions to the periodic reporting requirements. First, the Postal Service requests that the Commission adjust the deadlines for the quarterly Revenue, Pieces, and Weight (RPW) report; the Quarterly Statistics Report (QSR); the quarterly Billing Determinants report, and the monthly National Consolidated Trial Balance and the Revenue and Expense Summary (Trial Balance) report, to align the deadlines with other financial reporting deadlines. Petition at 1. The Postal Service states that revising the regulations so these deadlines align with other financial reporting deadlines will avoid potential restatements of the earlier filed reports once the data for the later filed reports are finalized. Id. at 3.

Specifically, the Postal Service wants to move the deadline for the RPW and QSR reports so that the quarterly and year-end report deadlines are the same as the Form 10-Q and Form 10-K report due dates. Id. at 2-3. In addition, the Postal Service requests that the deadlines for the quarterly Billing Determinants reports be extended to 60 days after the end of Quarters 1, 2, and 3, and 90 days after the year-end for Quarter 4.³ The Postal Service also requests that the Commission revise the periodic reporting rules so that the Trial Balance reports and the Monthly Summary Financial reports have the same deadline. Id. at 5-6.

³ Id. at 4. The Postal Service also requests that the Quarter 4 Billing Determinants report be incorporated into the annual Billing Determinants report rather than submitted as a standalone filing. Id. The Postal Service states that eliminating the standalone filing would help the Postal Service more effectively allocate scarce time and resources. Id.

Second, the Postal Service requests that the Commission modify the format of the Monthly Summary Financial Report to make the report more consistent with the Postal Service's quarterly and annual financial reports. Id. at 1. The Postal Service states that the term “Operating Revenue” as it is used in Tables 1 and 2 of the Monthly Summary Financial Report does not correspond with its usage in its Form 10-K statements. Id. at 7. The Postal Service requests revisions to Tables 1 and 2 of the Monthly Summary Financial Report so that the items and amounts reported for total operating revenue reconcile on both tables and the breakdown for revenue more closely aligns with the format in its other financial reports.⁴

⁴ Id. The Postal Service also requests updating Table 2 to reflect the name change of Standard Mail to USPS Marketing Mail. Id. Attachment 1 at 2.

Third, the Postal Service requests that the Commission consider eliminating or modifying any reporting requirements that have become unnecessary or irrelevant since the current periodic reporting rules were first implemented in 2009. Petition at 1. The Postal Service requests that the Commission consider eliminating or modifying these requirements to avoid imposing “unnecessary or unwarranted administrative effort and expense” on the Postal Service. Id. (citing 39 U.S.C. 3652(e)(1)).

III. Invitation To Comment

Interested persons are invited to provide written comments to facilitate the Commission's examination of the periodic reporting requirements. In addition to the specific revisions requested in the Postal Service's petition, the Commission also invites comments on whether specific periodic reporting requirements should be eliminated or modified or whether updates or enhancements to the requirements should be made.

Comments are due no later than March 7, 2018. Reply comments are due no later than April 6, 2018. All comments and suggestions received will be available for review on the Commission's website, http://www.prc.gov.

Pursuant to 39 U.S.C. 505, Lauren A. D'Agostino is appointed to serve as an officer of the Commission (Public Representative) to represent the interests of the general public in the above-captioned docket.

IV. Ordering Paragraphs

It is ordered:

1. The Commission establishes Docket No. RM2018-2 to consider revisions to the periodic reporting requirements.

2. Comments are due no later than March 7, 2018. Reply comments are due no later than April 6, 2018.

3. Pursuant to 39 U.S.C. 505, the Commission appoints Lauren A. D'Agostino to serve as an officer of the Commission (Public Representative) to represent the interests of the general public in this docket.

4. The Secretary shall arrange for publication of this notice in the Federal Register.

By the Commission.
Stacy L. Ruble,
Secretary.

[FR Doc. 2018-00320 Filed 1-10-18; 8:45 am]

BILLING CODE 7710-FW-P